DEPARTMENT OF LABOR

Employee Benefits Security Administration

29 CFR Part 2570

RIN 1210-AA98

Prohibited Transaction Exemption Procedures; Employee Benefit Plans

Correction

In proposed rule document 2010-21073 beginning on page 53172 in the issue of Monday, August 30, 2010, make the following correction:

§2570.43 [Corrected]

On page 53190, in §2570.43, in the second column, footnote 6 is corrected to read as set forth below:

⁶ The applicant will fill in the room number of the Office of Exemption Determinations. As of the date of this final regulation, the room number of the Office of Exemption Determinations is N-5700.

[FR Doc. C1-2010-21073 Filed 9-7-10; 8:45 am]

BILLING CODE 1505-01-D